DEPARTMENT OF COMMERCE

National Oceanic and Atmospheric Administration

RIN 0648-XS83

Endangered and Threatened Species: Recovery Plan Preparation for the Threatened Southern Distinct Population Segment of North American Green Sturgeon

AGENCY: National Marine Fisheries Service (NMFS), National Oceanic and Atmospheric Administration (NOAA), Commerce.

ACTION: Notice of intent to prepare a recovery plan; request for information.

SUMMARY: NMFS announces its intent to develop a recovery plan for the Southern Distinct Population Segment of North American green sturgeon (Acipenser medirostris; hereafter, “sDPS green sturgeon”) and also requests information from the public. The sDPS green sturgeon is listed as threatened under the Endangered Species Act (ESA). NMFS is required by the ESA to develop and implement recovery plans for the conservation and survival of ESA-listed species. NMFS will be coordinating with state, Federal, tribal, and local entities in California, Oregon, Washington, Canada, and Alaska to develop the recovery plan.

DATES: Information related to this notice will be accepted, and incorporated appropriately, at any time during the recovery planning process. However, the first meeting of the recovery team is scheduled for December 10-11, 2009, and therefore information must be received by December 8, 2009, to be included during that meeting. In order to best facilitate a smooth process, NMFS strongly encourages public participation as early as possible. An initial meeting with stakeholders is likely to occur in early 2010.

ADDRESSES: You may submit information by any of the following methods:

• E-mail: Information may be submitted by e-mail to swrsturgeon.recovery@noaa.gov. Include in the subject line of the e-mail the following identifier: Information for sDPS green sturgeon recovery plan.

• Mail: David Woodbury, National Marine Fisheries Service, Southwest Region, 777 Sonoma Avenue, Santa Rosa, CA 95404-4731.

• Fax: (707) 578-3435, Attention: David Woodbury.

FOR FURTHER INFORMATION CONTACT: David Woodbury, NMFS Southwest Region, at (707) 575-6088 or David.P.Woodbury@noaa.gov.

SUPPLEMENTARY INFORMATION: The ESA requires that the Secretary of Commerce develop and implement recovery plans for the conservation and survival of threatened and endangered species. Recovery is defined as an “improvement in the status of listed species to the point at which listing is no longer appropriate” (50 CFR 402.02). Recovery plans provide blueprints to determine priority recovery actions for funding and implementation. The ESA specifies that recovery plans must, to the maximum extent practicable, incorporate into each plan: (1) a description of site-specific management actions that may be necessary to achieve the plan's goals for the conservation and survival of the species; (2) objective, measurable criteria which, when met, would result in the species being removed from the list of threatened and endangered species; and (3) estimates of the time required and costs to achieve the plan's goal and to achieve intermediate steps toward that goal. NMFS has also developed interim recovery planning guidance that provides additional information to ensure consistency among recovery plans developed for all species managed by NMFS. This guidance emphasizes the importance of stakeholder involvement throughout the recovery planning process. In developing the draft recovery plan for the sDPS green sturgeon, NMFS will consider all of the information received in response to this notice and solicitation. In addition, NMFS will publish the draft recovery plan in the Federal Register for public comment.

NMFS requests relevant information from the public that should be addressed during preparation of the draft recovery plan for the threatened sDPS green sturgeon. Such information should address: (a) biological and other criteria for removing the species from the list of threatened and endangered species; (b) factors that are presently limiting or threaten to limit the survival and conservation of the sDPS green sturgeon; (c) actions to address these limiting factors and threats; (d) estimates of the time and cost to implement recovery actions; and (e) research, monitoring, and evaluation needs.

NMFS understands that stakeholder participation in the recovery planning process is critical to the success of implementing the recovery plan. As such, NMFS requests that stakeholders identify themselves in order to receive notices of upcoming meetings and to receive draft documents to provide comments. For those receiving this notice, please forward to those that may be either interested in participating directly or may have knowledge to lend that would benefit the plan, and thus green sturgeon.

Authority: 16 U.S.C. 1531 et seq.

Dated: November 6, 2009.
Angela Somma,
Chief, Endangered Species Division, Office of Protected Resources, National Marine Fisheries Service.

[FR Doc. E9-27314 Filed 11-10-09; 8:45 am]

BILLING CODE 3510-22-S